INTERNATIONAL TRADE COMMISSION

[Investigation Nos. 701-TA-350 and 731-TA-616 and 618 (Third Review)]

Determinations: Corrosion-Resistant Carbon Steel Flat Products From Germany and Korea

On the basis of the record ¹ developed in the subject five-year reviews, the United States International Trade Commission (Commission) determines, pursuant to section 751(c) of the Tariff Act of 1930 (19 U.S.C. 1675(c)), that revocation of the countervailing duty order on corrosion-resistant carbon steel flat products from Korea and the antidumping duty orders on corrosion-resistant carbon steel flat products from Germany and Korea would not be likely to lead to continuation or recurrence of material injury to an industry in the United States within a reasonably foreseeable time.

¹ The record is defined in sec. 207.2(f) of the Commission's Rules of Practice and Procedure (19 CFR 207.2(f)).

Background

The Commission instituted these reviews on January 3, 2012 (77 FR 301, January 4, 2012) and determined on April 9, 2012 that it would conduct full reviews (77 FR 24221, April 23, 2012). Notice of the scheduling of the Commission's reviews and of a public hearing to be held in connection therewith was given by posting copies of the notice in the Office of the Secretary, U.S. International Trade Commission, Washington, DC, and by publishing the notice in the Federal Register on May 30, 2012 (77 FR 31877) (schedule revised effective November 2, 2012 (77 FR 67395, November 9, 2012)). The hearing was held in Washington, DC, on January 9, 2013, and all persons who requested the opportunity were permitted to appear in person or by counsel.

The Commission transmitted its determinations in these reviews to the Secretary of Commerce on March 5, 2013. The views of the Commission are contained in USITC Publication 4388 (March 2013), entitled Corrosion-Resistant Carbon Steel Flat Products from Germany and Korea: Investigation Nos. 701-TA-350 and 731-TA-616 and 618 (Third Review).

Issued: March 5, 2013.
By order of the Commission.
Lisa R. Barton,
Acting Secretary to the Commission.

[FR Doc. 2013-05536 Filed 3-8-13; 8:45 am]

BILLING CODE 7020-02-P